DEPARTMENT OF COMMERCE

National Oceanic and Atmospheric Administration

[RTID 0648-XF539]

Snapper-Grouper Fishery of the South Atlantic; Requests for Exempted Fishing Permits

AGENCY: National Marine Fisheries Service (NMFS), National Oceanic and Atmospheric Administration (NOAA), Commerce.

ACTION: Notice of receipt of applications for exempted fishing permits; request for comments.

SUMMARY: NMFS announces the receipt of four applications for exempted fishing permits (EFP) from the Florida Fish and Wildlife Conservation Commission (FWC), Georgia Department of Natural Resources (GADNR), South Carolina Department of Natural Resources (SCDNR), and North Carolina Division of Marine Fisheries (NCDMF). If issued by NMFS, each EFP would exempt the applicable state agency and participating fishermen from specific Federal regulations applicable to the recreational harvest of red snapper in the South Atlantic. The applicants each propose to pilot test state data collection and management strategies for the recreational harvest of red snapper in 2026. The outcomes of the 2026 EFPs would guide the need for, and possible refinement of, future EFP applications in 2027 and 2028. The purposes of these EFPs are to improve data on recreational fishing effort, catch, and discards of red snapper in the South Atlantic and to inform the development of a long-term state-led management strategy for the recreational red snapper fishery.

DATES: Written comments must be received no later than March 10, 2026.

ADDRESSES: You may submit comments on the applications, identified by NOAA-NMFS-2026-0496 by either of the following methods:

• Electronic Submission: Submit all electronic public comments via the Federal e-Rulemaking Portal. Go to https://www.regulations.gov and type “NOAA-NMFS-2026-0496”, in the Search box. Click the “Comment” icon, complete the required fields, and enter or attach your comments.

• Mail: Submit all written comments to Mary Vara, Southeast Regional Office, NMFS, 263 13th Avenue South, St. Petersburg, FL 33701.

Instructions: Comments sent by any other method, to any other address or individual, or received after the end of the comment period may not be considered by NMFS. All comments received are a part of the public record and will generally be posted for public viewing on https://www.regulations.gov without change. All personal identifying information (e.g., name, address), confidential business information, or otherwise sensitive information submitted voluntarily by the sender will be publicly accessible. NMFS will accept anonymous comments—enter “N/A” in the required fields if you wish to remain anonymous.

Electronic copies of the EFP applications may be obtained from the Southeast Regional Office website at https://www.fisheries.noaa.gov/southeast/recreational-fishing-data/south-atlantic-red-snapper-state-data-collection-and-management.

FOR FURTHER INFORMATION CONTACT: Andy Strelcheck, phone: 727-824-5305, email: andy.strelcheck@noaa.gov.

SUPPLEMENTARY INFORMATION:

Background

The EFPs are requested under the authority of the Magnuson-Stevens Fishery Conservation and Management Act (Magnuson-Stevens Act; 16 U.S.C. 1801 et seq.), and regulations at 50 CFR 600.745(b) concerning exempted fishing.

On November 10, 2025, NMFS received four EFP applications from the FWC, GADNR, SCDNR, and NCDMF (or “the applicants”) for the recreational harvest of South Atlantic red snapper. NMFS reviewed the applications and provided feedback to the applicants on January 9, 2026. Updated applications addressing this feedback were received on January 23, 2026. The applicants are the primary agencies for marine fisheries management in their respective states, and actively participate with NMFS in the management of Federal fisheries in the South Atlantic. The primary purposes of these EFPs are to improve data on recreational fishing effort, catch, and discards of red snapper in the South Atlantic, and to inform the development of a long-term state-led management strategy for the recreational red snapper fishery. Additional purposes of the EFPs are to provide recreational fishermen on privately owned vessels (private vessels, private anglers), and the owners or operators of charter vessels or headboats (for-hire fishermen) increased fishing opportunities for red snapper, and collect related biological, social, and economic information from the fishery. Fishery managers have been challenged to satisfy fishermen's desires for longer fishing seasons as red snapper encounter rates have increased in response to rebuilding measures, resulting in forgone yield because more fish are estimated to be dying after release. Further, percent standard error estimates in this fishery are high, which are generated from the Federal Marine Recreational Information Program (MRIP), indicating low precision and significant uncertainty that would benefit from improved data collection efforts and approaches. These proposed EFPs aim to address this challenge by improving recreational catch estimation and reducing discards so fishing opportunities can increase.

The geographic scope of the states' proposed projects is South Atlantic state and Federal waters off Florida, Georgia, South Carolina, and North Carolina. Currently, red snapper data are collected through NMFS' MRIP and supplemented by FWC's specialized East Coast red snapper survey and various state carcass collection programs. Florida implemented the specialized survey in 2012 to provide more accurate estimates of in-season red snapper landings given MRIP's limitations in generating precise and timely in-season estimates during the short Federal seasons supported by recreational catch limits in recent years.

The applicants propose to use existing state-based surveys (FWC) or develop and test new electronic methods for data collection (FWC, GADNR, SCDNR, NCDMF) during extended state and Federal recreational red snapper fishing seasons to further increase the precision of recreational catch, effort, and discard estimates. The applicants collaborated to develop similar proposals, and this notice addresses the four state applications together due to similarities between the applicants' desired timing for the proposed projects. This notice summarizes the states' applications for EFPs by the shared features, and then gives an overview of each application by state to explain unique elements. Reference the individual state EFP applications for complete details of each proposed project at the website in the ADDRESSES section.

General Description of Proposed Projects

The projects proposed to be conducted under EFPs and summarized in this notice would apply to the recreational harvest of red snapper in state and Federal waters off the states of Florida, Georgia, South Carolina, and North Carolina. The common goals of the proposed projects are to provide more precise estimates of the numbers of recreational fishermen targeting red snapper, and the associated fishing effort and catch, and to gather information that may be used for further state involvement in management of the resource. Recreational fishermen participating under an EFP would include state-permitted private anglers, and state or federally permitted for-hire fishermen. Any discussion in this notice that relates to an angler that has paid to access fish from a for-hire vessel will be described specifically (paying angler on a for-hire vessel). None of the applicants' proposed projects would apply to the commercial harvest of red snapper in South Atlantic state or Federal waters, which would occur as usual in a manner consistent with the current regulations.

The applicants intend to conduct multi-year projects for the purposes described in the Background section of this notice. Each applicant has proposed to establish a state management strategy for the recreational harvest of red snapper in 2026 to expand access to red snapper over a longer period during a fishing year through the establishment of extended state and Federal recreational fishing seasons. The applicants stated that at the end of year 1, they would meet with NMFS to discuss outcomes, and any requested modifications to their EFPs for subsequent years would be submitted to NMFS as changes are made to the methodology of the projects. The total number of red snapper that would be harvested under these EFPs would be commensurate with the length of the proposed recreational fishing seasons for red snapper. The applicants intend to constrain harvest utilizing bag limits, a size limit (SCDNR), and the number of fishing days authorized under the EFPs, noting their lack of confidence in MRIP effort, catch, and discard estimates, and that those estimates do not allow for an exact estimate of landings until the first year of data collection under the EFPs is complete. Then, they noted their intent to estimate this information in future years using data collected during the extended 2026 recreational red snapper fishing seasons. These proposed extended recreational seasons would replace the Federal recreational season in July annually announced by NMFS under current regulations. During 2026, the applicants' data collection programs would each focus on a few aspects of the fishery, including identifying the number of recreational anglers, improving effort and catch data through testing and use of electronic data collection, and gathering biological, social and economic information.

To participate as a private angler or for-hire fisherman in any of the proposed projects and be exempted from Federal regulations for recreational red snapper harvest, a participant must follow all of the requirements under the EFP issued to the state in which they are licensed and landing the fish. Participating private anglers and for-hire operators landing red snapper in the states granted EFPs would be required to have the necessary state and Federal permits and licenses for the states where they will land the fish.

Participants in any of the four projects would be required to report electronically to the applicable state agency after a fishing trip. Participants would be required to complete and submit a trip report before they can initiate a new trip. Methods to submit the mandatory trip report would vary by state and whether fishing would occur as a private angler or on a vessel operated by a for-hire fisherman.

Participants would be able to retain one red snapper per person per day if they meet the other required conditions. Additionally, each of the applicants propose to prohibit the retention of red snapper by captain and crew of a for-hire vessel.

Unless specifically exempted under an EFP for the recreational harvest of red snapper or for the recreational harvest of other federally managed snapper-grouper species, current Federal regulations will continue to apply. Participation under each EFP may require additional or more restrictive provisions than current Federal regulations, such as a state license requirement or different harvest limit, and those provisions are summarized later by state and detailed in each application.

Proposed Projects by State

Florida

FWC is requesting an EFP from May 1, 2026, through December 31, 2028, applicable to the recreational harvest of red snapper in state and Federal waters off Florida's Atlantic coast. The proposal would test two methods of recreational data collection to improve monitoring of red snapper fishing effort, landings, and discards by private anglers and for-hire fishermen in state and Federal waters during an extended state and Federal recreational fishing season. FWC would use the data collected in 2026 to inform the season length and structure established by the state for 2027 and 2028 in collaboration with NMFS.

In 2026, FWC proposes to allow the recreational harvest of red snapper in state and Federal waters during a season divided into summer and fall segments totaling 39 fishing days. The proposed season would occur daily from May 22 through June 20, and then from Fridays through Sundays during October 2-4, October 9-11, and October 16-18. FWC proposed these dates to gather baseline data over a longer and more varied period compared to recent Federal seasons, and after consideration of fishery and environmental data, and public input. Each fishing trip during those summer and fall segments would be required to begin and end in Florida.

Participants, Permits, and License Requirements

FWC would allow a fisherman to harvest red snapper under the EFP if applicable state license and Federal permit requirements are met. At minimum, a private angler would need a valid saltwater recreational fishing license issued by Florida (or be otherwise exempt) and a valid State Reef Fish Survey (SRFS) endorsement to fish in state and Federal waters. For-hire fishermen would need the state Atlantic red snapper for-hire permit to fish in state waters only, while the same state permit and a Federal charter vessel/headboat permit for snapper-grouper would be required to fish in state and Federal waters. Harvest of red snapper would be allowed by spearfishing or hook-and-line fishing gear.

Aggregate Bag Limit

In addition to a maximum of one red snapper per person each day, FWC proposes to manage red snapper harvest as part of a 10-fish aggregate bag limit of snapper-grouper species to test whether such a limit could reduce discard mortality of the aggregate species. The proposed composition and limits for the species in the aggregate are detailed in the FWC application linked in the ADDRESSES section. Once a participant was to reach any combination of 10 fish from the aggregate, they would be required to stop bottom fishing for federally managed snapper-grouper species for the remainder of the trip to minimize catch and reduce discard mortality of other snapper-grouper species. Fishermen may still target other species managed by the state or NMFS after reaching the limit, such as coastal migratory pelagic species, like king mackerel and cobia.

Unless specifically exempted or required to participate under the EFP, all other current Federal regulations would continue to apply. For example, if a regulatory closure occurs in-season for any species other than for recreationally harvested red snapper, EFP participants would be prohibited from harvesting that species.

Reporting

FWC is proposing to use SRFS, an established state data collection method, and a voluntary smartphone application (phone app) for data collection. FWC would request private anglers and for-hire operators to submit a trip declaration using the voluntary phone app before each fishing trip. FWC intends that a trip declaration could provide additional insight into intended and actual fishing effort during the fishing season. Private anglers and for-hire captains fishing under the EFP would be required to report information about the trip, landings, and discards through SRFS. FWC would also encourage participants to voluntarily submit the same trip information through the phone app. Trip reports submitted through the voluntary phone app would need to occur within 24 hours after a fishing trip ends. An EFP would allow FWC to evaluate the usefulness of the phone app as a method to collect recreational data and to compare collected data with those collected through SRFS. The data collected through the FWC project would include elements such as the number of fish harvested and released, and the number of fish released alive and dead. Unless exempted, for-hire fishermen will continue to report all for-hire trips as required by 50 CFR 622.176(b).

Enforcement

FWC's proposed enforcement strategy for the project would involve a multi-layered approach that integrates education with direct field monitoring by state and Federal agents. FWC managers would closely coordinate with law enforcement, field biologists, and phone staff to ensure all parties are informed of the project's specific requirements, such as the aggregate bag limit. Signing up for the state Atlantic red snapper for-hire permit would allow FWC to provide a registry of participants to law enforcement for verification. Furthermore, FWC staff would conduct dockside sampling and angler interviews at access points to validate catch data and ensure adherence to the experimental fishing guidelines, including verifying and recording the use of descending devices.

Outreach

FWC would implement a targeted outreach plan for participants under the EFP to reduce confusion and increase compliance. Outreach would include information on how the aggregate bag limit would change throughout the year as fishing seasons for some snapper-grouper species (e.g., gag grouper, blueline tilefish) will be open during the first portion of the proposed split season but closed during the second portion. FWC states that they already developed outreach materials for the aggregate bag limit, which they previously tested under the FWC's 2024-2026 Atlantic EFP projects.

Other Existing EFPs

FWC is currently in year 2 of three Atlantic red snapper research projects supported by EFPs through September 30, 2026 (more information on these projects can be found at https://www.fisheries.noaa.gov/southeast/bycatch/south-atlantic-red-snapper-exempted-fishing-permits-2025-2026). NMFS funded these projects in 2024 and 2025 in response to a request for proposals designed to test innovative recreational management strategies aimed at reducing dead discards of snapper-grouper species and to provide additional red snapper harvest opportunities. FWC intends to continue these Atlantic research projects at least until NMFS responds to this new EFP request. FWC has stated that they are able to conduct all of the projects simultaneously but are willing to coordinate with NMFS on whether to end the three ongoing Atlantic research projects early if this new EFP is issued.

Georgia

GADNR is requesting an EFP to conduct a pilot study to develop and test a state-based data collection system for the recreational harvest of red snapper off Georgia in state and Federal waters using a state management system. This study aims to address the lack of precision in current Federal catch estimates and to evaluate alternative data collection approaches. GADNR anticipates that the outcome of the 2026 pilot will inform a decision to extend the program through 2027 and 2028.

GADNR is requesting an initial 1-year EFP to harvest red snapper beginning in 2026. Specifically, the state proposes to establish a 62-day recreational fishing season for red snapper in state and Federal waters that aligns with MRIP wave 4, running from July 1 through August 31, 2026. This timing was selected because wave 4 historically represents the period with the highest rates of recreational fishing effort and discards. While GADNR is seeking the EFP for 2026, the state has expressed its intent to potentially extend the project through a subsequent EFP request for an additional 2 years (covering 2027 and 2028) to better test the validity of their data collection application and establish long-term catch trends.

Each fishing trip taken under the EFP would be required to begin and end at a landing location in Georgia. Consistent with the proposed methods, private anglers and anglers on a for-hire vessel would be allowed to harvest one red snapper per person per day. While the captain and crew on charter or headboat trips would be prohibited from retaining a bag limit, properly licensed private anglers and paying anglers on a for-hire vessel could harvest red snapper within the defined season. Unless specifically exempted or required to participate under the EFP, all other current Federal regulations would continue to apply.

Participants, Permits, and License Requirements

Participation in the state management program under an EFP would be open to properly licensed private anglers and for-hire fishermen. Private anglers would be required to possess a valid Georgia recreational fishing license and a free annual Saltwater Information Program permit. For-hire fishermen would be required to be properly licensed in Georgia and, when operating in Federal waters, to hold a valid Federal charter vessel/headboat permit for snapper-grouper. To harvest red snapper under the EFP, all participants would be required to register with the state's electronic data reporting application and follow all mandatory reporting conditions.

Reporting

GADNR proposes to use VESL, an electronic reporting application developed by Bluefin Data LLC, to collect data from private anglers. To be consistent with the legislative text for Georgia's reef and migratory fishes endorsement, the project would require each private angler to report except under certain circumstances, when alternate trip participants would be allowed to submit data on another angler's behalf. Participants would be required to obtain a trip authorization code prior to departing on each fishing trip, and to submit a mandatory post-trip report within 24 hours of the trip's departure time. The data collected through the state survey program could include trip length and end time, depth fished, and the number of red snapper harvested or released and their status. Mandatory trip reporting by for-hire fishermen would continue under existing requirements at 50 CFR 622.176(b).

Enforcement

Compliance with the EFP regulations would be enforced by GADNR law enforcement officers, who would conduct at-sea and dockside intercepts to verify that private anglers have obtained the required trip authorization codes. Officers would also monitor for-hire fishing activity to ensure that mandatory trip reports are submitted following the landing of any red snapper. Additionally, the state would utilize law enforcement engagement and data from the existing MRIP to identify and determine rates of non-compliance during 2026. No correction factors for non-reporting or misreporting are proposed for generating catch estimates.

Outreach

To support the successful implementation of the 2026 project, GADNR would develop and distribute a variety of outreach materials aimed at educating private anglers and for-hire fishermen on participation requirements. These resources would emphasize the mandatory nature of the electronic data reporting system and detail the expectations for all participants under an EFP. Educational efforts would also encourage participants to complete and submit trip reports as soon as possible, while maintaining the reporting deadline of no later than 24 hours after the trip departure time. Furthermore, GADNR plans to leverage partnerships with industry leaders who have pledged to help disseminate this information and support the project requirements and reporting mandates within the fishing community.

South Carolina

SCDNR is requesting an EFP to conduct a pilot study to develop and test a state-based data collection system for the recreational harvest of red snapper off South Carolina in state and Federal waters. This study aims to increase fishing opportunities for fishermen, test a data collection program for private anglers, test management options, and improve available data for management of the recreational harvest of red snapper.

SCDNR is requesting an initial 1-year EFP to harvest red snapper beginning in 2026. Specifically, the state proposes a 62-day season that aligns with MRIP wave 4, running from July 1 through August 31, 2026. This timing was selected because wave 4 historically represents the period with the highest rates of fishing effort and discards. While the permit is being sought for 2026, the state has expressed the intent to potentially extend the pilot program for an additional 2 years (covering 2027 and 2028) to better test the validity of their data collection application and establish long-term catch trends.

Each fishing trip must originate and terminate at a South Carolina landing location. Consistent with the proposed methods, anglers would be allowed to harvest one red snapper per person per day. In addition to the bag limit, SCDNR proposed a minimum size limit of 20 inches or approximately 51 centimeters in total length to match the current minimum size limit in state waters. The rationale provided for such a limit in Federal waters off South Carolina is to match existing state water regulations for fishermen and enforcement benefit. All other provisions for red snapper and for other species would remain in effect. While the captain and crew on charter or headboat trips would be prohibited from retaining a daily bag limit, properly licensed private and for-hire anglers may harvest fish within the defined season.

Participants, Permits, and License Requirements

Under the proposed project, SCDNR would allow private anglers and for-hire fishermen to fish under the EFP after meeting the license and permit requirements. For private anglers, SCDNR would require an existing state saltwater fishing license (or be otherwise exempt) and would require a state-issued experimental red snapper harvest permit. A for-hire fisherman would need a state charter vessel or headboat license, and a Federal charter vessel/headboat permit for snapper-grouper to fish in Federal waters. To prevent an increase of new for-hire fishermen solely to participate under an EFP and to harvest red snapper, SCDNR would require possession of the valid for-hire state license and Federal permit to have been issued prior to January 1, 2026. All private anglers and for-hire fishermen participating under an EFP must possess a copy of the EFP while fishing. If granted, SCDNR would distribute a digital copy of the issued EFP to all participating private anglers and for-hire fishermen.

Reporting

Participating private anglers and for-hire fishermen would use VESL, a data reporting program to register to fish. VESL is the application currently used to collect electronic for-hire data from state licensed and federally permitted charter vessels and headboats. To participate under the EFP, private anglers must declare each trip via the VESL application no earlier than 5 days before departure, and then complete and submit a mandatory trip report no later than 24 hours after the trip departure time. Upon declaring a trip, private anglers would receive a trip authorization code, which must be presented to law enforcement for inspection if requested. Under certain circumstances, alternate trip participants may submit data on another angler's behalf. To ensure compliance and data integrity, the VESL system is designed so that a new trip cannot be initiated or authorized until the previous trip's report has been completed and submitted. For-hire fishermen would continue mandatory reporting through the same VESL application in compliance with existing requirements at 50 CFR 622.176(b). The data collected through the SCDNR project could include elements such as the number of red snapper harvested, the number of fish released alive or dead, primary depth fished, and total hours spent fishing.

Enforcement

Compliance with the EFP regulations would be enforced by SCDNR law enforcement officers, who would conduct inspections at-sea and at landing locations. Officers would verify that all private anglers and for-hire fishermen possess the necessary valid licenses and permits. During these encounters, private anglers would be required to present their trip authorization code for the specific trip being inspected. To ensure data integrity, enforcement officers would also monitor for-hire fishermen to verify that landed fish correspond with submitted mandatory reports. SCDNR would provide absolute harvest and discard values for red snapper collected during wave 4. No correction factors for non-reporting or misreporting are proposed for generating catch estimates as the focus of year 1 is to assist anglers in reaching a full census of data through direct engagement and automated system reminders.

Outreach

To support the successful implementation of the 2026 pilot program, SCDNR plans to implement an extensive outreach and education campaign to ensure angler compliance and build positive momentum for the new data reporting program. Prior to a red snapper recreational season, SCDNR would use social media, news releases, and in-person engagements at fishing clubs and seminars to clearly communicate permit and mandatory reporting requirements. A dedicated website would provide instructional videos for the VESL application, step-by-step reporting guides, and a downloadable trip datasheet to assist with accurate data entry. During the fishing season, SCDNR staff and law enforcement would engage directly with participants at docks to distribute materials, assist with the post-trip reporting process, and collect biological data such as length, weight, and otoliths. The agency would also leverage partnerships with industry leaders to disseminate information and conduct post-season surveys to evaluate angler preferences and program effectiveness.

North Carolina

NCDMF is requesting an EFP from July 1 through August 31, 2026. NCDMF may also request an EFP annually for up to 3 years. NCDMF proposes to develop and test a state-based data collection system for the recreational harvest of red snapper in state and Federal waters off North Carolina. The study aims to improve the accuracy of harvest and discard data, better understand behavior of recreational fishermen, and ultimately transition toward state-led management of the species. The proposed methodology for this pilot program focuses on improving the accuracy of fishery data through several integrated research activities. Through the state's fish carcass collection program, the NCDMF would gather biological data from donated fish carcasses to better understand the stock's health.

Under the NCDMF proposal, the recreational harvest of red snapper would be allowed during a proposed 62-day season from July 1 through August 31, 2026, which corresponds to the same sampling period of MRIP wave 4. NCDMF has proposed these dates to test an alternate data collection program and management measures in this fishery to provide immediate tracking of both harvests and discards.

The allowable gear to participate under an EFP would be limited to hook and line gear. Private anglers and paying anglers on for-hire vessels would be allowed to harvest one red snapper per person per day. Participants would be required to follow all other existing state and Federal regulations. To constrain the overall harvest during the extended season, the NCDMF would limit private anglers to the more restrictive of either one fish per person or four fish per vessel per day. Within the for-hire component, the bag and vessel limits would vary based on the number of paying anglers. On a charter vessel (six or fewer passengers), the more restrictive of either a bag limit per paying angler or a vessel limit would apply. The bag limit per paying angler would be one fish per day, or a vessel limit of four. On a headboat (more than 6 paying passengers), a vessel limit of 20 fish would apply. A for-hire captain and crew would be excluded from possessing a bag limit of red snapper.

Participants, Permits, and License Requirements

As detailed in the application, NCDMF would allow participation under an EFP as a private angler or for-hire fisherman if all applicable state license and Federal permit requirements are met. Private anglers would need a valid state coastal recreational fishing license unless an individual is otherwise exempted. All for-hire fishermen would need one of two state licenses and the Federal charter vessel/headboat permit for snapper-grouper. To prevent an increase of new for-hire fishermen solely to participate under an EFP and to harvest red snapper, NCDMF would require possession of the valid for-hire state license and Federal permit to have been issued prior to January 1, 2026. As part of these requirements, all private anglers and for-hire fishermen must also apply to be data collectors under a state scientific or educational activity permit.

Further, participants must formally acknowledge that reporting is required for all red snapper caught, whether they were specifically targeted or caught incidentally. The NCDMF application does not state whether each fishing trip under an EFP would need to begin and end in North Carolina.

Reporting

All private anglers would submit mandatory trip reports using the VESL application created by Bluefin LLC. The proposed project also includes a specific mail and email survey to collect demographic, social, and economic data. Private anglers would utilize the phone app to declare a fishing trip no earlier than 5 days prior to the start of a trip to receive a trip authorization code linked to each trip, which NCDMF would also verify this code during trip reporting. After each fishing trip, private anglers must complete and submit the trip report no later than 24 hours from the trip departure time. Mandatory trip reporting by for-hire fishermen would continue under existing requirements at 50 CFR 622.176(b). As mentioned earlier, NCDMF does not state whether fishing under an EFP would require all trips to begin and end in North Carolina. However, the application does specify that data collected through VESL would require private anglers to submit the landing county and site before fishing occurs. Data collected through the VESL phone app would be summarized every other week. No correction factors for non-reporting or misreporting are proposed for generating catch estimates in year 1.

Enforcement

Enforcement of the EFP would be managed through a combination of field inspections and digital reporting controls. NCDMF law enforcement officers would intercept private recreational anglers at boat ramps and docks to verify that they have obtained a unique trip authorization code for any trip targeting or retaining red snapper. For-hire captains are also required to keep a copy of the EFP on board to prove participation during law enforcement checks. NCDMF requested an increase in the presence of NOAA law enforcement officers during the proposed season to help with compliance of anglers participating in the EFP study.

Outreach

NCDMF would conduct outreach through press releases and social media to announce participation opportunities for the EFP. To ensure compliance with mandatory reporting, NCDMF would develop instructional videos demonstrating how to use the VESL phone app. Private recreational anglers and for-hire captains who register would be subject to follow-up surveys via email to collect demographic, social, and economic data, as well as feedback on trip satisfaction.

Requested Exemptions

The applicants have each requested exemptions to certain Federal regulations for the proposed projects in the South Atlantic.

FWC has requested exemptions from:

50 CFR 622.181(c)(2) that restricts combining harvest limits of red snapper in Federal waters with any harvest limitation in state waters, limits the harvest and possession of red snapper to the specified season, and applies these limitations to a federally permitted for-hire vessel in both state and Federal waters.

50 CFR 622.183(b)(5)(i) that specifies when the recreational season will occur each year.

50 CFR 622.193(y)(2) that specifies the annual catch limit and accountability measures applicable to the recreational harvest of red snapper.

GADNR, SCDNR, and NCDMF have requested exemptions from:

50 CFR 622.8(b) that describes general closure provisions that apply if landings reach a catch quota specified in 50 CFR part 622.

50 CFR 622.181(c)(2) that restricts combining harvest limits of red snapper in Federal waters with any harvest limitation in state waters, limits the harvest and possession of red snapper to the specified season, and applies these limitations to a federally permitted for-hire vessel in both state and Federal waters.

50 CFR 622.193(y)(2) that specifies the annual catch limit and accountability measures applicable to the recreational harvest of red snapper.

NMFS Preliminary Finding

NMFS finds the applications warrant further consideration based on a preliminary review. The applications are considered together in this notice because of the similar nature as stated earlier. However, each application is independent and will be considered individually as part of the overall recreational management of red snapper. If issued by NMFS, an EFP may impose possible conditions, including but not limited to a prohibition on fishing within marine protected areas, marine sanctuaries, or special management zones without additional authorization.

Final decisions on issuance of EFPs and the regulatory exemptions will depend on NMFS' review of public comments received on the applications, consultations with the appropriate fishery management agencies of the affected states, the South Atlantic Fishery Management Council, and the U.S. Coast Guard, and a determination that the activities to be taken under the EFPs are consistent with all other applicable laws.

Authority: 16 U.S.C. 1801 et seq.

Dated: February 10, 2026.
David R. Blankinship,
Acting Director, Office of Sustainable Fisheries, National Marine Fisheries Service.

[FR Doc. 2026-02927 Filed 2-11-26; 4:15 pm]

BILLING CODE 3510-22-P